DEPARTMENT OF ENERGY

Federal Energy Regulatory Commission

[Docket No. PL03-6-000]

Natural Gas Markets Conference; Supplemental Notice of Public Conference and Agenda

October 3, 2003.

1. As announced in the Notice of Conference issued September 23, 2003, the Federal Energy Regulatory Commission (FERC) will convene a public conference on October 14, 2003. To provide sufficient time for the agenda, the meeting time has been changed, and will now start at 9 a.m. in the Commission Meeting Room. This year's conference on natural gas markets will focus on the findings and recommendations contained in the National Petroleum Council's (NPC) report: Balancing Natural Gas Policy—Fueling the Demands of a Growing Economy.¹All interested persons are invited to attend. No registration is required for attendance. All visitors must check-in at the First Street entrance and have picture identification readily available to ensure quick admittance.

¹ The NPC Report's summary of findings and recommendations was released by the NPC on September 25, 2003, and is available on the NPC Web site at www.npc.org. The entire integrated report is scheduled to be released by the NPC on or about the day of the conference on the NPC Web site. Printed copies of the integrated report will not be distributed at the conference.

2. The conference will consist of two sessions. The first session will feature three panel presentations by the NPC study team. Panel 1 will address gas supply. Panel 2 will address gas demand. Panel 3 will address infrastructure issues. A question and answer period will follow the presentations, with an opportunity for audience participation.

3. The second session will feature an open forum to discuss any issues the Commission should consider in shaping its future regulatory policies concerning the natural gas industry. The open forum will consist of oral presentations by interested parties, limited to five minutes, followed by responsive discussion.

4. To assist in organizing the conference, parties wishing to participate in discussions regarding the NPC presentations or to speak at the open forum are requested to submit an expression of interest by October 10, 2003, via e-mail to Robert Flanders at robert.flanders@ferc.gov. Parties should identify the speaker and indicate whether they wish to participate in the NPC-related presentations or raise other issues at the open forum. Parties may also sign up to speak at the open forum on the day of the conference, subject to time constraints.

5. The purpose of this conference is to discuss generic issues and not contested cases pending before the Commission. If any comments raise specific issues concerning pending contested cases, those comments will be subject to the Commission's Off-the-Record Communications rules located in subpart V of part 385 of the Commission's regulations, including the public notice requirements and sanctions listed in sections 385.2201(h) and (i).

6. The conference will be transcribed. Those interested in acquiring the transcript should contact Ace Reporters at 202-347-3700 or 800-336-6646. Transcripts will be placed in the public record ten days after the Commission receives the transcripts. Additionally, Capitol Connection offers the opportunity for remote listening and viewing of the conference. It is available for a fee, live or over the Internet, via C-Band Satellite. Persons interested in receiving the broadcast, or who need information on making arrangements should contact David Reininger or Julia Morelli at Capitol Connection (703-993-3100) as soon as possible or visit the Capitol Connection Web site at http://www.capitolconnection.gmu.edu and click on “FERC.”

7. For additional information, please contact Robert Flanders at 202-502-8442 or at robert.flanders@ferc.gov.

Magalie R. Salas,
Secretary.

[FR Doc. E3-00039 Filed 10-14-03; 8:45 am]

BILLING CODE 6717-01-P